DEPARTMENT OF HEALTH AND HUMAN SERVICES

Centers for Disease Control and Prevention (CDC)

Expanded Human Immunodeficiency Virus (HIV) Testing for Disproportionately Affected Populations

AGENCY: Centers for Disease Control and Prevention (CDC), Department of Health and Human Services (HHS).

ACTION: Notice.

Notice of Intent to increase funding available to make awards under the Centers for Disease Control and Prevention Funding Opportunity Announcement CDC-RFA-PS10-10138, “Expanded Human Immunodeficiency Virus (HIV) Testing for Disproportionately Affected Populations”. Additional funding from the Patient Protection and Affordable Care Act has been allocated for awards to state and county and local public health departments with at least 175 estimated combined AIDS diagnoses among Blacks/African Americans and Hispanics/Latinos in 2007.

SUMMARY: This notice provides public notice of CDC's intent to increase available funding for the Centers for Disease Control and Prevention Funding Opportunity Announcement PS10-10138, “Expanded Human Immunodeficiency Virus (HIV) Testing for Disproportionately Affected Populations” to make awards to state and county and local public health departments. It is the intent of CDC to increase the amount of funds available to applicants who applied for awards under the previously announced funding opportunity CDC-RFA-PS10-10138, which closed on June 24, 2010.

CDC received additional funding through the Patient Protection Affordable Care Act (PPACA), Section 4002 Prevention and Public Health Fund. Accordingly CDC adds the following information to the previously published funding opportunity announcement:

—Catalog of Federal Domestic Assistance Number: 93.523 The Affordable Care Act: Human Immunodeficiency Virus (HIV) Prevention and Public Health Fund Activities.

—Authority: This program is authorized under Sections 301 and 318 of the Public Health Service Act (42 U.S.C. Section 241 and 247c), as amended, and Section 4002 of the Patient Protection and Affordable Care Act (Pub. L. 111-148).

—Reporting Requirements: Recipients of the PPACA funds through this funding opportunity announcement are required to comply with the reporting requirements, terms and conditions set forth in the published version of the PS10-10138, “Expanded Human Immunodeficiency Virus (HIV) Testing for Disproportionately Affected Populations” (CDC-RFA-PS10-10138).

—CFDA Number 93.523 The Affordable Care Act: Human Immunodeficiency Virus (HIV) Prevention and Public Health Fund Activities is the PPACA-specific CFDA number for this initiative. It is included in addition to the CFDA Number 93.940, HIV Prevention Activities for Health Departments, published in the above-referenced Funding Opportunity Announcement (FOA).

Award Information:

Type of Award: Cooperative Agreement.

Fiscal Year Funds: Fiscal Year 2010, Funding for this announcement will include a combination of HIV Prevention funding and funds from the PPACA, Prevention and Public Health Fund. Available funding amounts, including the additional PPHF funds, are as follows.

Part A—HIV Screening and HIV Counseling, Testing, and Referral

Approximate Current Fiscal Year Funding: Up to $60,000,000 total (to include up to $55,633,000 in Enhanced HIV Testing funds and adding $4,367,000 in Patient Protection and Affordable Care Act of 2010 funds).

Approximate Total Project Period Funding: $166,899,000. (This amount is an estimate, and is subject to availability of funds. This amount includes direct and indirect costs.)

Approximate Number of Awards: 30.

Approximate Average Award: $2,000,000. The average awards will be proportionately based on estimated combined 2007 Black/African American and Hispanic/Latino AIDS diagnoses for eligible jurisdictions. (These amounts are for the first 12-month budget period, and include both direct and indirect costs.)

Floor and Ceiling of Individual Award Ranges:

Jurisdiction | Floor of individual award range | REVISED Ceiling of individual award range*
Florida | $4,307,446 | $6,818,721
New York City | 3,998,517 | 6,329,161
California | 2,482,306 | 3,926,423
Texas | 2,094,529 | 3,311,912
New York State | 1,861,862 | 2,943,206
Georgia | 1,788,184 | 2,826,449
Maryland | 1,700,288 | 2,687,160
North Carolina | 1,303,462 | 2,058,310
Louisiana | 1,302,170 | 2,056,262
Puerto Rico | 1,258,222 | 1,986,618
Houston | 1,197,470 | 1,890,344
District of Columbia | 1,140,596 | 1,800,216
New Jersey | 1,059,163 | 1,671,169
Philadelphia | 1,042,359 | 1,644,540
South Carolina | 985,485 | 1,554,411
Chicago | 968,681 | 1,527,782
Virginia | 852,348 | 1,343,429
Los Angeles | 803,229 | 1,265,591
Pennsylvania | 801,937 | 1,263,543
Michigan | 798,059 | 1,257,398
Tennessee | 774,792 | 1,220,527
Illinois | 707,578 | 1,114,012
Ohio | 684,311 | 1,077,141
Massachusetts | 667,507 | 1,050,512
Alabama | 642,948 | 1,011,593
Mississippi | 605,463 | 952,191
Connecticut | 602,878 | 948,093
Missouri | 549,881 | 864,111
Arizona | 542,126 | 851,820
San Francisco | 476,204 | 747,353
* These ceilings are for the first 12-month budget period and include direct and indirect costs.

Part B—Enhanced Linkage to Medical Care and Partner Services

Approximate Current Fiscal Year Funding: $4,000,000.

Approximate Total Project Period Funding: $12,000,000 (This amount is an estimate, and is subject to availability of funds. This amount includes direct and indirect costs.)

Approximate Number of Awards: Up to 20.

Approximate Average Award: $200,000 (This amount is for the first 12-month budget period, and includes both direct and indirect costs.)

Floor of Individual Award Range: $ 150,000.

Ceiling of Individual Award Range: $ 225,000 (This ceiling is for the first 12-month budget period and includes direct and indirect costs.)

Both Part A (HIV Screening and HIV Counseling, Testing, and Referral) and Part B (Enhanced Linkage to Medical Care and Partner Services)

Anticipated Award Date: September 30, 2010.

Budget Period Length: 12 months.

Project Period Length: 3 years (Availability of PPACA funds beyond the initial 12 months will be based on availability of future funding.)

Throughout the project period, CDC's commitment to continuation of awards will be conditioned on the availability of funds, evidence of satisfactory progress by the recipient (as documented in required reports), and the determination that continued funding is in the best interest of the Federal government.

Application Selection Process

CDC will apply the same selection methodology published in the CDC-RFA-PS10-10138.

Funding Authority

CDC will add the PPACA Authority to that which is currently reflected in the published Funding Opportunity CDC-RFA-PS10-10138. The revised funding authority language will read:

—This program is authorized under Sections 301 and 318 of the Public Health Service Act (42 U.S.C. Section 241 and 247c), as amended, and Section 4002 of the Patient Protection and Affordable Care Act (Pub. L. 111-148).

DATES: The effective date for this action is August 19, 2010 and remains in effect until the expiration of the project period of the PPACA funded applications.

FOR FURTHER INFORMATION CONTACT: Elmira Benson, Acting Deputy Director, Centers for Disease Control and Prevention, 2920 Brandywine Road, Atlanta, GA 30341, telephone (770) 488-2802, e-mail: Elmira.Benson@cdc.gov.

SUPPLEMENTARY INFORMATION: On March 23, 2010, the President signed into law the Patient Protection and Affordable Care Act (PPACA), Public Law 111-148. PPACA is designed to improve and expand the scope of health care coverage for Americans. Cost savings through disease prevention is an important element of this legislation and PPACA has established a Prevention and Public Health Fund (PPHF) for this purpose. Specifically, the legislation states in Section 4002 that the PPHF is to “provide for expanded and sustained national investment in prevention and public health programs to improve health and help restrain the rate of growth in private and public sector health care costs.” PPACA and the Prevention and Public Health Fund make improving public health a priority with investments to improve public health.

The PPHF states that the Secretary shall transfer amounts in the Fund to accounts within the Department of Health and Human Services to increase funding, over the fiscal year 2008 level, for programs authorized by the Public Health Service Act, for prevention, wellness and public health activities including prevention research and health screenings, such as the Community Transformation Grant Program, the Education and Outreach Campaign for Preventative Benefits, and Immunization Programs.

PPACA legislation affords an important opportunity to advance public health across the lifespan and to reduce health disparities by supporting an intensive community approach to chronic disease prevention and control.

Therefore, increasing funding available to applicants under this FOA using the PPHF to further HIV prevention programs is consistent with the purpose of the PPHF, as stated above, to provide for an expanded and sustained national investment in prevention and public health programs. Further, the Secretary allocated funds to CDC, pursuant to the PPHF, for the types of activities this FOA is designed to carry out.

Dated: August 13, 2010.
Tanja Popovic, MD, PhD, F(AMM), AM(AAFS),
Deputy Associate Director for Science, Centers for Disease Control and Prevention.

[FR Doc. 2010-20572 Filed 8-18-10; 8:45 am]

BILLING CODE P